DEPARTMENT OF HOUSING AND URBAN DEVELOPMENT

[Docket No. FR-7062-N-04]

Privacy Act of 1974; System of Records

AGENCY: Office of Assistant Secretary for Administration, Privacy Office, HUD.

ACTION: Notice of a rescindment of a system of records.

SUMMARY: Pursuant to the provisions of the Privacy Act of 1974, as amended, the Department of the Housing and Urban Development (HUD) is issuing a public notice of its intent to rescind the Director to Chief Technology Officer: Digital Identity and Access Management System (DIAMS).

DATES: Effective date: October 10, 2021—[Federal Register: Privacy Act of 1974; Notice of an Updated System of Records].

ADDRESSES: You may submit comments, identified by docket number HUD-2014-23117 by one of the following methods:

Federal e-Rulemaking Portal: http://www.regulations.gov. Follow the instructions provided on that site to submit comments electronically.

Fax: (202) 619-8365.

Email: www.privacy@hud.gov.

Mail: Attention: Privacy Office; LaDonne White, Chief Privacy Officer, The Executive Secretariat, 451 Seventh Street SW, Room 10139, Washington, DC 20410-0001.

Instructions: All submissions received must include the agency name and docket number for this rulemaking. All comments received will be posted without change to http://www.regulations.gov. including any personal information provided.

Docket: For access to the docket to read background documents or comments received go to http://www.regulations.gov.

FOR FURTHER INFORMATION CONTACT: Ladonne White, Chief Privacy Officer, The Privacy Office, 451 Seventh Street SW, Room 10139, Washington, DC 20410-0001; telephone number 202-708-3054 (this is not a toll-free number). Individuals who are hearing- or speech-impaired may access this telephone number via TTY by calling the Federal Relay Service at 800-877-8339 (this is a toll-free number).

SUPPLEMENTARY INFORMATION: DIAMS does not directly collect PII. The information DIAMS uses is covered under the government-wide SORN GSA/GOVT-7 and therefore does not require a separate SORN.

SYSTEM NAME AND NUMBER:

Digital Identity and Access Management System (DIAMS)—OCIO/QN.01.

HISTORY:

77 FR 41996, (July 17, 2012).

Ladonne White,
Departmental Privacy Officer.

[FR Doc. 2022-06544 Filed 3-28-22; 8:45 am]

BILLING CODE 4210-67-P